ENVIRONMENTAL PROTECTION AGENCY

[ER-FRL-6629-9]

Environmental Impact Statements; Notice of Availability

Responsible Agency: Office of Federal Activities, General Information (202) 564-7167 or http://www.epa.gov/compliance/nepa/.

Weekly receipt of Environmental Impact Statements

Filed May 27, 2002 Through May 31, 2002

Pursuant to 40 CFR 1506.9.

EIS No. 020220, Final EIS, AFS, CO, White River National Forest Land and Resource Management Plan 2002 Revision, Alternative K is the Selected Alternative, Implementation, Eagle, Garfield, Gunnison, Mesa, Moffat, Pitkin, Rio Blanco, Routt and Summit Counties, CO, Wait Period Ends: July 08, 2002, Contact: Martha Ketelle (970) 945-2521. This document is available on the Internet at: www.fs.fed.us/r2/whiteriver.

EIS No. 020221, Final EIS, FHW, IL, U.S. 67 (FAP-310) Expressway from Jacksonville to Macomb Transportation Improvements, NPDES and COE Section 10 and 404 Permits, Morgan, Cass, Schuyler and McDonough Counties, IL, Wait Period Ends: July 08, 2002, Contact: Norman Stoner (217) 492-4640.

EIS No. 020222, Draft EIS, NRS, OK, Rehabilitation of Aging Flood Control Dams in Oklahoma, Authorization and Funding, OK, Comment Period Ends: July 08, 2002, Contact: M. Darrel Dominick (405) 742-1227.

EIS No. 020223, Final EIS, AFS, MT, Beaverhead-DeerLodge National Forest, Noxious Weed Control Program, Implementation, Integrated Weed Management, Beaverhead, Butte-Silver Bow, Anaconda-Deer Lodge, Granite, Jefferson, Powell and Madison Counties, Dillon, MT, Wait Period Ends: July 08, 2002, Contact: Leaf Magnuson (406) 683-3950.

EIS No. 020224, Final EIS, COE, FL, Lake Tohopekaliga Extreme Drawdown and Habitat Enhancement Project, Fish and Wildlife Habitat Improvements, Construction, Operation and Maintenance, Osceola County, FL, Wait Period Ends: July 08, 2002, Contact: Lizabeth Manners (904) 232-3923.

EIS No. 020225, Final Supplement, NOA, Atlantic Tunas, Swordfish and Sharks, Highly Migratory Species Fishery Management Plan, Updated Information concerning Reduction of Bycatch and Incidental Catch in the Atlantic Pelagic Longline Fishery, Atlantic Ocean, Gulf of Mexico and Caribbean Sea, Wait Period Ends: June 28, 2002, Contact: Christopher Rogers (301) 713-2347. Under Section 1506.10(d) of the Council on Environmental Quality Regulations for Implementating the Procedural Provisions of the National Environmental Policy Act the US Environmental Protection Agency has Granted a 7-Day Wavier for the above EIS.

EIS No. 020226, Final EIS, USA, PA, Fort Indiantown Gap National Guard Training Center, Training and Operations Enhancement, Pennsylvania National Guard (PANG), Annville, Dauphin and Lebanon Counties, PA, Wait Period Ends: July 08, 2002, Contact: Ltc. Richard H. Shertzer (717) 861-2548.

EIS No. 020227, Draft EIS, BLM, CA, Coachella Valley California Desert Conservation Area Plan Amendment, Santa Rosa and San Jacinto Mountains Trails Management Plan, Implementation, Riverside and San Bernardino Counties, CA, Comment Period Ends: September 05, 2002, Contact: Elena Misquez (760) 251-4810. This document is available on the Internet at: www.ca.blm.gov/palmsprings.

Amended Notices

EIS No. 020163, Final EIS, COE, FL, Cape Sable Seaside Sparrow Protection, Interim Operating Plan (IOP), Alternative 7R Final Recommend Plan, Emergency Sparrow Protection Actions, Implementation, Everglass National Park, Miami-Dade County, FL, Wait Period Ends: June 18, 2002, Contact: Jon Moulding (904) 232-2286. Revision of FR Notice Published on 05/03/2002: CEQ Comment Period Ending 06/03/2002 has been extended to 06/18/2002.

EIS No. 020213, Draft EIS, FHW, PA, Mon/Fayette Transportation Project, Improvements from PA Route 51 to I-376 in Monroeville and Pittsburg, Funding, U.S. Coast Guard Bridge Permit and COE Section 404 Permit, Allegheny County, PA, Comment Period Ends: August 14, 2002, Contact: James A. Cheatham (717) 221-3461. Revision of FR Notice Published on 05/31/2002: Correction to Contact Telephone.

Dated: June 4, 2002.
Ken Mittelholtz,
Environmental Protection Specialist, Office of Federal Activities.

[FR Doc. 02-14395 Filed 6-6-02; 8:45 am]

BILLING CODE 6560-50-P